NATIONAL SCIENCE FOUNDATION

Proposal Review Panel for Materials Research; Notice of Meeting

In accordance with the Federal Advisory Committee Act (Pub. L. 92-463, as amended), the National Science Foundation (NSF) announces the following meeting:

Name and Committee Code: Proposal Review Panel for Materials Research—Materials Research Science and Engineering Center (MRSEC) University of Pennsylvania (DMR) (#1203) (Site Visit).

Date and Time: March 31, 2025; 8 a.m.-3:45 p.m.

Place: University of Pennsylvania, 3231 Walnut Street, Philadelphia, PA 19104.

Type of Meeting: Part-Open.

Contact Person: Dr. Serdar Ogut, Program Director, National Science Foundation, 2415 Eisenhower Avenue, Alexandria, VA 22314; Telephone: 703-292-4429.

Purpose of Meeting: NSF site visit to conduct a review during year 2 of the award period as stipulated in the cooperative agreement.

Agenda: To conduct an in depth evaluation of performance, to assess progress towards goals, and to provide recommendations.

Monday, March 31, 2025

8 a.m.-8:20 a.m.—Executive Sessions (Closed)

8:20 a.m.-11:40 a.m.—MRSEC Presentations (Open)

11:40 a.m.-12:10 p.m.—Executive Sessions (Closed)

12:10 p.m.-1:10 p.m.—Lunch (Open)

1:10 p.m.-2:10 p.m.—Poster Session (Open)

2:10 p.m.-3:45 p.m.—Executive Sessions (Closed)

Reason for Closing: The program being reviewed during the site visit includes information of a proprietary or confidential nature, including technical information; financial data, such as salaries, and personal information concerning individuals associated with the program. These matters are exempt under 5 U.S.C. 552b(c), (4) and (6) of the Government in the Sunshine Act.

Dated: February 12, 2025.
Crystal Robinson,
Committee Management Officer.

[FR Doc. 2025-02761 Filed 2-18-25; 8:45 am]

BILLING CODE 7555-01-P